FEDERAL EMERGENCY MANAGEMENT AGENCY

44 CFR Part 67

[Docket No. FEMA-7303]

Proposed Flood Elevation Determinations

AGENCY: Federal Emergency Management Agency, FEMA.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Mitigation Directorate, Federal Emergency Management Agency, 500 C Street SW., Washington, DC 20472, (202) 646-3461, or (email) matt.miller@fema.gov.

SUPPLEMENTARY INFORMATION: The Federal Emergency Management Agency (FEMA or Agency) proposes to make determinations of base flood elevations and modified base flood elevations for each community listed below, in accordance with section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Associate Director, Mitigation Directorate, certifies that this proposed rule is exempt from the requirements of the Regulatory Flexibility Act because proposed or modified base flood elevations are required by the Flood Disaster Protection Act of 1973, 42 U.S.C. 4104, and are required to establish and maintain community eligibility in the National Flood Insurance Program. As a result, a regulatory flexibility analysis has not been prepared.

Regulatory Classification. This proposed rule is not a significant regulatory action under the criteria of section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of section 2(b)(2) of Executive Order 12778.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | # Depth in feet above ground. *Elevation in feet (NGVD): Existing | # Depth in feet above ground. *Elevation in feet (NGVD): Modified
Connecticut | Shelton (City), Fairfield County | Farmill River | Approximately 250 feet upstream from confluence of Means Brook | *237 | *236
|  |  | Approximately 140 feet upstream of Farmill Road | *356 | *355
Maps available for inspection at the Shelton City Hall, 54 Hill Street, Shelton, Connecticut.
Send comments to The Honorable Mark A. Lauretti, Mayor of the City of Shelton, 54 Hill Street, Shelton, Connecticut 06484.
Connecticut | Wallingford (Town), New Haven County | Quinnipiac River | Approximately 1,560 feet downstream of Toelles Road | *22 | *23
|  |  | Approximately 1.25 miles upstream of Oak Street | *69 | *70
Maps available for inspection at the Town of Wallingford Department of Planning & Zoning, 45 South Main Street, Wallingford, Connecticut.
Delaware | New Castle County (Unincorporated Areas) | Unnamed Tributary to Mill Creek | Approximately 600 feet upstream of confluence with Mill Creek | None | *242
|  |  | Approximately 870 feet upstream of Loblolly Court | None | *281
Maps available for inspection at the New Castle Government Center, 87 Reads Way, New Castle, Delaware.
Send comments to Mr. Thomas Gordon, New Castle County Executive, New Castle County Government Center, 87 Reads Way, New Castle, Delaware 19720.
Georgia | Albany (City), Dougherty County | Flint River | Approximately 800 feet downstream of East Oakridge Drive | *182 | *183
|  |  | Approximately 5.9 miles upstream of Lake Worth Dam | *200 | *197
Maps available for inspection at the Dougherty County Planning & Development Services Department, 222 Pine Avenue, Albany, Georgia.
Send comments to Mr. Phillip West, Dougherty County Planner I, Planning & Development Services, P.O. Box 447, Albany, Georgia 31702-0447.
Georgia | Dougherty County (Unincorporated Areas) | Spring Flats Branch | Approximately 120 feet downstream of Georgia Highway 300 off-ramp | None | *182
|  |  | Approximately 50 feet upstream of Gaissert Road | None | *223
|  | Piney Woods Creek | Approximately 6,100 feet downstream of Cordele Road (U.S. 300) | *200 | *197
|  |  | Approximately 4,100 feet upstream of South County Line Road | None | *238
|  | Flint River | Approximately 9.625 miles downstream of Oak Ridge Drive (at corporate limits) | *177 | *173
|  |  | Approximately 10.55 miles upstream of Lakeworth Dam (at corporate limits) | *207 | *204
|  | Dry Creek | Approximately 0.52 mile downstream of State Route 3 | *177 | *174
|  |  | Approximately 1,000 feet downstream of U.S. Route 19 | *180 | *179
|  | Tributary 1 to Dry Creek | Approximately 0.53 mile downstream of Unnamed Farm Road | None | *229
|  |  | Approximately 1,600 feet downstream of Unnamed Farm Road | None | *231
|  | Tributary 4 to Flint River | Approximately 1.34 mile downstream of State Highway 257 (Cordele Road) | *200 | *197
|  |  | Approximately 650 feet downstream of State Highway 257 (Cordele Road) | *200 | *199
Maps available for inspection at the Dougherty County Planning & Development Services Department, 222 Pine Avenue, Albany, Georgia.
Send comments to Mr. Phillip West, Dougherty County Planner I, Planning & Development Services, P.O. Box 447, Albany, Georgia 31702-0447.
Illinois | Evanston (City), Cook County | Lake Michigan | Entire shoreline affecting community | None | *585
Maps available for inspection at the City of Evanston's Engineer's Office, 2100 Ridge Avenue, Evanston, Illinois.
Send comments to The Honorable Lorraine Morton, Mayor of the City of Evanston, 2100 Ridge Avenue, Evanston, Illinois 60201.
Illinois | Franklin Park (Village), Cook County | Crystal Creek Tributary | Approximately 85 feet downstream of Panoramic Drive | None | *643
|  |  | Approximately 480 feet upstream of Mannheim Road | None | *645
|  | Sexton Ditch | Approximately 1,450 feet upstream of confluence with Crystal Creek Tributary | None | *643
|  |  | Approximately 1,830 feet upstream of confluence with Crystal Creek Tributary | None | *643
|  | Des Plaines River | Just upstream of Belmont Avenue | *623 | *627
|  |  | Approximately 500 feet downstream of Irving Park Road | None | *628
Maps available for inspection at the Franklin Park Village President's Office, 9500 Belmont Avenue, Franklin Park, Illinois.
Send comments to Mr. Daniel B. Pritchett, Village of Franklin Park President, 9500 Belmont Avenue, Franklin Park, Illinois 60131.
Illinois | Riverdale (Village), Cook County | Little Calumet River | Approximately 600 feet upstream of the confluence with Calumet Sag Channel | None | *588
Maps available for inspection at the Riverdale Village Hall, Office of Community and Economic Development, 157 West 144th Street, Riverdale,
Send comments to The Honorable Joseph Szabo, Mayor of the Village of Riverdale, 157 West 144th Street, Riverdale, Illinois 60827.
Indiana | Indianapolis (City), Marion County | Derbyshire Creek | Approximately 275 feet upstream of Perrault Drive | None | *770
|  |  | Upstream Limit of Detailed Study at McFarland Road (approximately 325 feet north of intersection of East Banta Road and McFarland Road) | None | *773
|  | O'Brian Ditch | Upstream side of 42nd Street | None | *835
|  |  | Approximately 1,150 feet upstream of Black Locust Drive | None | *853
Maps available for inspection at the City-County Building, 200 East Washington Street, Room 2142, Indianapolis, Indiana.
Send comments to Ms. Donna L. Price, City of Indianapolis Floodplain Manager, Department of Capital Asset Management, 200 East Washington Street, City-County Building, Room 2501, Indianapolis, Indiana 46204-3354.
Indiana | New Albany (City), Floyd County | Fall Run | At confluence with Falling Run | *438 | *443
|  |  | At downstream side of Grant Line Road | *442 | *443
|  | Falling Run | At Ohio River levee | *433 | *438
|  |  | At Janie Drive | *479 | *474
|  | Middle Creek | Approximately 150 feet downstream of State Route 111 | None | *448
|  |  | Approximately 75 feet upstream of upstream crossing of Southern Railway | None | *472
|  | Vincennes Run | At confluence with Middle Creek | None | *448
|  |  | Approximately 70 feet upstream of Eagle Lane | None | *471
Maps available for inspection at the City of New Albany City-County Building, Board of Public Works, Room 317, 311 Hauss Square, New Albany, Indiana.
Send comments to The Honorable Douglas B. England, Mayor of the City of New Albany, Room 316, City-County Building, 311 Hauss Square, New Albany, Indiana 47150-3586.
Massachusetts | Easton (Town), Bristol County | Gowards Brook | Approximately 1,300 feet downstream of Norton Avenue | *95 | *94
|  |  | Approximately 100 feet upstream of State Route 106 | *147 | *141
Maps available for inspection at the Town of Easton Planning & Zoning Department, 136 Elm Street, Easton, Massachusetts.
Send comments to Mr. Kevin Paicos, Easton Town Administrator, 136 Elm Street, Easton, Massachusetts 02356.
Michigan | Blaine (Township), Benzie County | Lake Michigan | Entire shoreline within the community | None | *585
Maps available for inspection at the Blaine Township Hall, Meeting Room, 4760 Herring Grove Road (White Owl Road), Arcadia, Michigan.
Send comments to Mr. Donald Smeltzer, Blaine Township Supervisor, 3063 Herring, Arcadia, Michigan 49613-9606.
Michigan | DeTour (Township), Chippewa County | Lake Huron | Entire shoreline within the community | None | *584
|  | Saint Marys River | Entire shoreline within the community | None | *584
Maps available for inspection at the DeTour Township Office, 260 Superior Street, DeTour Village, Michigan.
Send comments to Mr. Thomas E. Lehman, DeTour Township Supervisor, 18659 E-M134 #75, DeTour Village, Michigan 49725.
Michigan | Drummond Island (Township), Chippewa County | Saint Marys River | Entire shoreline within the community | None | *584
Maps available for inspection at the Drummond Island Township Hall, 110 Center Street, Drummond Island, Michigan.
Send comments to Mr. Frank Sasso, Drummond Island Township Supervisor, 110 Center Street, Drummond Island, Michigan 4972.
Michigan | Garfield (Township), Mackinac County | Lake Michigan | Entire shoreline within the community | None | *585
Maps available for inspection at the Garfield Township Hall, Route 1, Krause Road, Engadine, Michigan.
Send comments to Mr. Thomas King, Garfield Township Supervisor, P.O. Box 148, Engadine, Michigan 49827.
Michigan | Moran (Township), Mackinac County | Lake Michigan | Entire shoreline within community | None | *585
Maps available for inspection at the Moran Township Hall, 1358 West U.S. Highway 2, St. Ignace, Michigan.
Send comments to Mr. Robert Holle, Moran Township Supervisor, 1358 West U.S. Highway 2, St. Ignace, Michigan 49781-9643.
Michigan | Onota (Township), Alger County | Lake Superior | Entire shoreline within the community | None | *604
Maps available for inspection at the Onota Township Hall, 1461 Deerton Sandlake Road, Deerton, Michigan.
Send comments to Mr. Andrew Mika, Onota Township Supervisor, P.O. Box 32, Deerton, Michigan 49822.
Michigan | Powell (Township), Marquette County | Lake Superior | Entire shoreline within the community | None | *604
Maps available for inspection at the Powell Township Hall, 101 Bensinger Avenue, Big Bay, Michigan.
Send comments to Ms. Sarah Pelto, Powell Township Supervisor, P.O. Box 39, Big Bay, Michigan 49808.
Michigan | St. Ignace (Township), Mackinac County | Lake Huron | Entire shoreline within the community | None | *585
Maps available for inspection at the Mackinac County Courthouse Annex, 100 North Marley, Room 115, St. Ignace, Michigan.
Send comments to Mr. Dale Nelson, St. Ignace Township Supervisor, P.O. Box 373, St. Ignace, Michigan 49781.
Minnesota | Houston (City), Houston County | Root River | Approximately 0.5 mile downstream of Grant Street (State Route 76) | *683 | *682
|  |  | Approximately 0.6 mile upstream of Grant Street (State Route 76) | *690 | *686
|  | Outlet A-1 | Approximately 100 feet south of intersection of Washington and Elm Streets | *689 | *682
|  | Outlet A-2 | Approximately 400 feet north of intersection of Plum and Grant Streets | *685 | *681
|  | Outlet B | Approximately 150 feet northeast of intersection of Henderson and Elm Streets | *683 | *679
Maps available for inspection at the Houston City Hall, 105 West Maple Street, Houston, Minnesota.
Send comments to The Honorable Terry Chiglo, Mayor of the City of Houston, 105 West Maple Street, Houston, Minnesota 55943-0667.
New Hampshire | New Boston (Town), | South Branch Piscataquog River | Approximately 10 feet upstream of Merrimack Farmers Exchange Dam | *424 | *418
| Hillsborough County |  | Approximately 0.51 mile upstream of Butterfield Mill Road | None | *532
Maps available for inspection at the New Boston Town Hall, 7 Meetinghouse Hill Road, New Boston, New Hampshire.
Send comments to Mr. Burton H. Reynolds, New Boston Town Administrator, P.O. Box 250, New Boston, New Hampshire 03070.
New Hampshire | Rindge (Town), Cheshire County | Lake Monomonac/North Branch | At the New Hampshire/Massachusetts State boundary | None | *1,049
|  | Millers River | At Mill Pond Road | None | *1,184
Maps available for inspection at the Rindge Town Office, 49 Payson Hill Road, Rindge, New Hampshire.
Send comments to Mr. Carl E. Weber, Rindge Town Administrator, P.O. Box 163, Rindge, New Hampshire 03461.
New Jersey | East Hanover (Township), Morris County | Passaic River | Approximately 1,125 feet downstream of Eagle Rock Avenue | *175 | *174
|  |  | Approximately 275 feet upstream of Mount Pleasant Avenue | *175 | *176
Maps available for inspection at the East Hanover Township Hall, Engineering Department, 411 Ridgedale Avenue, East Hanover, New Jersey.
Send comments to The Honorable Lawrence J. Colasurdo, Mayor of the Township of East Hanover, 411 Ridgedale Avenue, East Hanover, New Jersey 07936.
New Jersey | Florham Park (Borough), Morris County | Passaic River | At Columbia Turnpike | *177 | *176
|  |  | Approximately 0.39 mile downstream of Passaic Avenue | *177 | *176
|  | Fish's Brook | At the confluence with Passaic River | *177 | *176
|  |  | Approximately 50 feet upstream of Brooklake Road | *177 | *176
Maps available for inspection at the Borough of Florham Park Engineering Office, 111 Ridgedale Avenue, Florham Park, New Jersey.
Send comments to Mr. Dwight F. Longley, Florham Borough Administrator, 111 Ridgedale Avenue, Florham Park, New Jersey 07932.
New Jersey | Livingston (Township), Essex County | Passaic River | Approximately 2.1 miles downstream of State Route 10 | *174 | *175
|  |  | Approximately 1.7 miles upstream of the confluence of Passaic River Tributary | None | *176
|  | Passaic River Tributary | At the confluence with Passaic River | *177 | *176
|  |  | Approximately 0.25 mile downstream of South Orange Avenue | *177 | *176
Maps available for inspection at the Livingston Town Hall, Engineering Department, 357 South Livingston Avenue, Livingston, New Jersey.
Send comments to Mr. Charles J. Tahaney, Livingston Township Manager, 357 South Livingston Avenue, Livingston, New Jersey 07039.
New York | Brunswick (Town), Rensselaer County | Piscawen Kill | At the Brunswick/Troy corporate limits | None | *363
|  |  | Approximately 50 feet upstream of North Lake Avenue Crossing #4 | None | *477
Maps available for inspection at the Brunswick Town Hall, Assessor's Office, 308 Town Office Road, Troy, New York.
Send comments to Mr. Philip Herrington, Brunswick Town Supervisor, 308 Town Office Road, Troy, New York 12180.
New York | Lowville (Town), Lewis County | Mill Creek | At confluence with Black River | None | *744
|  |  | At upstream corporate limits | None | *760
Maps available for inspection at the Lowville Town Hall, 5533 Bostwick, Lowville, New York.
Send comments to Mr. Arleigh D. Rice, Lowville Town Supervisor, Route 3, Box 8T, Lowville, New York 13367.
North Carolina | Clayton (Town), Johnston County | Little Creek | Approximately 1,000 feet downstream of Ranch Road | *196 | *197
|  |  | Just downstream of Robertson Street | *251 | *250
Maps available for inspection at the Clayton Town Hall, Planning Department, 231 East 2nd Street, Clayton, North Carolina.
Send comments to Mr. Steve Biggs, Clayton Town Manager, P.O. Box 879, Clayton, North Carolina 27250.
North Carolina | Davidson County (Unincorporated Areas) | Hasty Creek | Approximately 800 feet upstream of confluence with Hunts Fork | *719 | *720
|  |  | Approximately 250 feet downstream of NCSR 1781 | *746 | *747
|  | Payne Creek | Approximately 225 feet downstream of NCSR 1757 | *735 | *736
|  |  | Approximately 0.96 mile upstream of confluence of Payne Creek Tributary | *753 | *766
|  | Payne Creek Tributary | At confluence with Payne Creek | None | *744
|  |  | Approximately 1.1 miles upstream from Canterbury Road | None | *782
|  | Rich Fork | Approximately 0.5 mile downstream of NCSR 1755 | *708 | *709
|  |  | Approximately 0.4 mile upstream of NCSR 1741 | *764 | *765
|  | Rich Fork Tributary | At confluence with Rich Fork | *764 | *765
|  |  | Approximately 780 feet upstream of NCSR 1739 | *779 | *780
|  | Stream No. 97 | At confluence with Stream No. 99 | None | *747
|  |  | Approximately 0.74 mile upstream from confluence with Stream No. 99 | None | *764
|  | Stream No. 99 | At confluence with Payne Creek | None | *731
|  |  | Approximately 0.71 mile upstream from confluence with Stream No. 97 | None | *778
Maps available for inspection at the Davidson County Governmental Center, 913 Greensboro Street, Lexington, North Carolina.
Send comments to Mr. Robert C. Hyatt, Davidson County Manager, P.O. Box 1067, Lexington, North Carolina 27293.
North Carolina | Franklin County (Unincorporated Areas) | Lake Royale | Approximately 3,000 feet east of intersection of Baptist Church Road and Sledge Road | None | *191
|  | Tar River | A point approximately 1.20 miles upstream of North Main Street | None | *207
|  |  | A point approximately 1.66 miles upstream of North Main Street | None | *211
Maps available for inspection at the Franklin County Planning and Development Office, 215 East Nash Street, Louisburg, North Carolina.
Send comments to Mr. James Moss, Chairman of the Franklin County Board of Commissioners, 113 Market Street, Louisburg, North Carolina 27549.
North Carolina | Johnston County (Unincorporated Areas) | Little Creek | At confluence with Swift Creek | None | *156
|  |  | Approximately 1,000 feet downstream of Ranch Road | *196 | *197
|  | Swift Creek | Approximately 0.4 mile downstream of confluence of Little Creek | *153 | *154
|  |  | At Wake County line | *201 | *203
|  | Poplar Creek | Approximately 700 feet downstream of Wilson Mills Road | None | *129
|  |  | At corporate limits of Town of Wilson Mills | None | *171
|  | Unnamed Tributary | At the confluence of Swift Creek | None | *193
|  | #1 to Swift Creek | At the Wake County line | None | *218
|  | Unnamed Tributary | At the confluence with Swift Creek | None | *178
|  | # 2 to Swift Creek | Just upstream of Cornwallis Road | None | *262
|  | White Oak Creek | At the confluence with Swift Creek | None | *187
|  |  | At the Wake County line | None | *223
|  | Little Poplar Creek | At the confluence with Poplar Creek | None | *140
|  |  | 250 feet upstream from U.S. Highway 70 | None | *247
Maps available for inspection at the Johnson County GIS Department, 207 East Johnston Street, Smithfield, North Carolina.
Send comments to Mr. Rick Haster, Johnston County Manager, P.O. Box 1049, Smithfield, North Carolina 27577.
North Carolina | Lexington (City), Davidson County | Darr Branch | Approximately 1,880 feet upstream of confluence with Abbotts Creek | *641 | *640
|  |  | Approximately 20 feet downstream of Tanvard Street | *721 | *724
|  | Darr Drain | At confluence with Darr Branch | *656 | *652
|  |  | Approximately 1,025 feet upstream of Young Drive | *681 | *676
|  | Nokomis Branch | At confluence with Darr Branch | *662 | *659
|  |  | Approximately 80 feet upstream of North Pine Street | *742 | *743
|  | Twin Creek | At a point approximately 250 feet upstream of confluence with Abbotts Creek | *636 | *635
|  |  | Approximately 0.43 mile upstream of confluence with Abbotts Creek | None | *661
|  | Twin Creek Tributary | Approximately 475 feet upstream of confluence with Abbotts Creek | *648 | *636
|  |  | At a point approximately 1,600 feet upstream of confluence with Abbotts Creek | *661 | *654
Maps available for inspection at the City of Lexington Community Development Department, 28 West Center Street, Lexington, North Carolina.
Send comments to The Honorable Richard Thomas, Mayor of the City of Lexington, 28 West Center Street, Lexington, North Carolina 27293.
North Carolina | Thomasville (City), Davidson County | Hasty Creek | At upstream side of NCSR 1779 | None | *768
|  |  | Approximately 210 feet upstream of State Route 68 | None | *850
Maps available for inspection at the Thomasville City Hall, 10 Salem Street, Thomasville, North Carolina.
Send comments to The Honorable Don Truell, Mayor of the City of Thomasville, 10 Salem Street, Thomasville, North Carolina 27360.
North Carolina | Wilson's Mills (Town), Johnston County | Poplar Creek | From the Town of Wilson's Mills corporate limits to Swift Creek Road | None None | *171 *196
Maps available for inspection at the Wilson's Mills Town Hall, 22 Fire Department Road, Wilson's Mills, North Carolina.
Send comments to The Honorable Kenneth R. Jones, Mayor of the Town of Wilson's Mills, P.O. Box 448, Wilson's Mills, North Carolina 27593.
Ohio | Newark (City), Licking County | North Fork Licking River | Approximately 360 feet upstream of confluence with Licking River | *814 | *831
|  |  | Approximately 4,752 feet upstream of Manning Street | *813 | *830
Maps available for inspection a the Newark City Hall, Engineering Department, 40 West Main Street, Newark, Ohio.
Send comments to The Honorable Frank Stare, Mayor of the City of Newark, 40 West Main Street, Newark, Ohio 43055.
Pennsylvania | Alburtis (Borough), Lehigh County | Swabia Creek | Approximately 180 feet downstream from the downstream corporate limits | None | *412
|  |  | Upstream corporate limits | None | *439
|  | Swabia Creek Tributary | At confluence with Swabia Creek Approximately 275 feet upstream of confluence with Swabia Creek | None None | *433 *435
Maps available for inspection at the Borough Hall, 260 Franklin Street, Alburtis, Pennsylvania.
Send comments to The Honorable Ronald De'Iaco, Mayor of the Borough of Alburtis, 260 Franklin Street, Alburtis, Pennsylvania 18011.
Pennsylvania | Allentown (City), Lehigh County | Jordan Creek | At confluence with Little Lehigh Creek | *257 | *256
|  |  | At upstream corporate limits | *274 | *276
|  | Lehigh River | At downstream corporate limits | *243 | *241
|  |  | At upstream corporate limits | *267 | *265
|  | Little Lehigh Creek | 820 feet downstream Third Street | *250 | *249
|  |  | Approximately 950 feet upstream of Keystone Road | *308 | *311
|  | Tributary to Lehigh River | At confluence with Lehigh river | *266 | *264
|  |  | Approximately 1,270 feet upstream side of Dauphin Street | *267 | *266
|  | Cedar Creek | Confluence with Little Lehigh Creek | *262 | *266
|  |  | Just downstream of Mosser Street | *265 | *266
Maps available for inspection at the Engineering Bureau, Room 431, City Hall, 435 Hamilton Street, Allentown, Pennsylvania.
Send comments to The Honorable William Heydt, Mayor of the City of Allentown, 435 Hamilton Street, Room 528, Allentown, Pennsylvania 18101.
Pennsylvania | Bethlehem (City), Lehigh County | Lehigh River | Approximately 1,637 feet downstream of New Street | *233 | *230
|  |  | At upstream corporate limits | *243 | *241
|  | Monocacy Creek | At confluence with Lehigh River | *233 | *230
|  |  | Approximately 10 feet upstream of West Lehigh Street | *237 | *236
Maps available for inspection at the City Hall, 10 East Church Street, Bethlehem, Pennsylvania.
Send comments to The Honorable Donald J. Cunningham, Jr., 10 East Church Street, Bethlehem, Pennsylvania 18018.
Pennsylvania | Blawnox (Borough), Allegheny County | Allegheny River | Approximately 2,200 feet downstream of confluence with Sandy Creek | *740 | *741
|  |  | Approximately 3,000 feet upstream of confluence of Sandy Creek | *741 | *742
Maps available for inspection at the Blawnox Borough Hall, 376 Freeport Road, Pittsburgh, Pennsylvania.
Send comments to Mr. Westley M. Rohrer, Jr., President of the Borough of Blawnox Council, Blawnox Borough Hall, 376 Freeport Road, Pittsburgh, Pennsylvania 15238.
Pennsylvania | Catasauqua (Borough), Lehigh County | Lehigh River | Approximately 0.38 mile downstream of Race Street | *270 | *271
|  |  | Approximately 0.28 mile upstream of Pine Street | *280 | *281
|  | Catasauqua Creek | At confluence with Lehigh River | *271 | *273
|  |  | Just upstream of CONRAIL bridge | *272 | *273
Maps available for inspection at the Borough Hall, 118 Bridge Street, Catasauqua, Pennsylvania.
Send comments to Mr. Eugene Goldfeder, Borough Manager, 118 Bridge Street, Catasauqua, Pennsylvania 18032.
Pennsylvania | Coplay (Borough), Lehigh County | Lehigh River | At downstream corporate limits | None | *288
|  |  | At upstream corporate limits | None | *294
Maps available for inspection at the Borough Hall, 98 South Fourth Street, Coplay, Pennsylvania.
Send comments to The Honorable Bill Leiner, Jr., Mayor of the Borough of Coplay, 98 South Fourth Street, Coplay, Pennsylvania 18037.
Pennsylvania | Delaware Water Gap (Borough), Monroe County | Delaware River | Approximately 1.5 miles downstream of Interstate 80 | *315 | *313
|  |  | Approximately 500 feet downstream of confluence with Cherry Creek | *322 | *321
Maps available for inspection at the Delaware Water Gap Borough Office, 49 Main Street, Delaware Water Gap, Pennsylvania.
Send comments to Mr. Wayne Mac Williams, President of the Delaware Water Gap Borough Council, P.O. Box 218, Delaware Water Gap, Pennsylvania 18327.
Pennsylvania | Fountain Hill (Borough), Lehigh County | Lehigh River | Downstream corporate limits Upstream corporate limits | *239 *239 | *236 *236
Maps available for inspection at the Borough Hall, 941 Long Street, Bethlehem, Pennsylvania.
Send comments to The Honorable Steve Repasch, Mayor of the Borough of Fountain Hill, 941 Long Street, Bethlehem, Pennsylvania 18015.
Pennsylvania | Hanover (Township), Lehigh County | Lehigh River | Approximately 0.29 mile downstream of U.S. Route 22 | None | *265
|  |  | Approximately 0.66 mile upstream of U.S. Route 22 | None | *270
|  | Tributary to Lehigh River | Approximately 0.70 mile upstream of confluence with Lehigh River | None | *292
|  |  | Approximately 0.71 mile upstream of confluence with Lehigh River | None | *293
Maps available for inspection at the Township Hall, 2202 Grove Road, Allentown, Pennsylvania.
Send comments to Ms. Sandra Pudliner, Township Manager, 2202 Grove Road, Allentown, Pennsylvania 18103.
Pennsylvania | Lower Macungie (Township), Lehigh County | Little Lehigh Creek | Approximately 1,400 feet downstream of Riverbend Road | *309 | *312
|  |  | At upstream corporate limits (county boundary) | *402 | *406
|  | Swabra Creek | At confluence with Little Lehigh Creek | *346 | *351
|  |  | Approximately 450 feet downstream of Warmkessel Drive | *350 | *351
|  | Toad Creek | At confluence with Little Lehigh Creek | *392 | *394
|  |  | Approximately 160 feet upstream of Ash Lane | *398 | *399
|  | Tributary to Little Lehigh Creek | Approximately 200 feet downstream of upstream corporate limits | None | *382
|  |  | At upstream corporate limits | None | *385
|  | Spring Creek No. 1 | At confluence with Little Lehigh Creek | *373 | *378
|  |  | Approximately 528 feet downstream Private Drive | *377 | *378
Maps available for inspection at the Township Hall, 3400 Brookside Road, Macungie, Pennsylvania.
Send comments to Mr. Robert E. Lee, Chairman of the Board of Supervisors, 3400 Brookside Road, Macungie, Pennsylvania 18062.
Pennsylvania | Lower Milford (Township), Lehigh County | Tributary to Hosensack Creek | Approximately 0.38 mile downstream of Kings Highway | None | *487
|  |  | Approximately 750 feet upstream of Kings Highway | None | *509
Maps available for inspection at the Township Hall, 7607 Chestnut Hill Church Road, Coopersburg, Pennsylvania.
Send comments to Mr. Ted Benson, Chairman of the Lower Milford Township Board of Supervisors, 7607 Chestnut Hill Church Road, Coopersburg, Pennsylvania 18036.
Pennsylvania | North Whitehall (Township), Lehigh County | Lehigh River | At downstream corporate limits Approximately 255 feet downstream of upstream corporate limits | *303 *351 | *304 *350
|  | Jordan Creek | At downstream corporate limits Approximately 500 feet downstream of Kernsville Road | *357 *360 | *356 *359
Maps available for inspection at the Township Hall, Zoning Office, 3256 Levans Road, Coplay, Pennsylvania.
Send comments to Ms. Janet Talotta, Chairman of the Board of Supervisors, 3256 Levans Road, Coplay, Pennsylvania 18037.
Pennsylvania | Salisbury (Township), Lehigh County | Lehigh River | Downstream corporate limits Upstream corporate limits | *239 *246 | *236 *247
|  | Little Lehigh Creek | Approximately 400 feet upstream of Fish Hatchery Road | None | *295
|  | At upstream corporate limits | 309 | *312
Maps available for inspection at the Township Hall, 2900 South Pike Avenue, Allentown, Pennsylvania.
Send comments to Mr. Gabriel Khalife, Township Manager, 2900 South Pike Avenue, Allentown, Pennsylvania 18103.
Pennsylvania | Slatington (Borough), Lehigh County | Lehigh River | At downstream corporate limits At upstream corporate limits | *358 *373 | *360 *374
| Trout Creek No. 2 | At confluence of Lehigh River | Approximately 730 feet upstream of confluence with Lehigh River | *362 *362 | *363 *363
Maps available for inspection at the Slatington Borough Office, 125 South Walnut Street, Slatington, Pennsylvania.
Send comments to Mr. Clayton E. Snyder, President of Council, 125 South Walnut Street, Slatington, Pennsylvania 18080.
Pennsylvania | South Whitehall (Township), Lehigh County | Jordan Creek | At downstream corporate limits | *302 | *303
|  |  | Approximately 1,700 feet upstream of confluence of Hassen Creek | *357 | *356
Maps available for inspection at the Township Hall, 4444 Walbert Avenue, Allentown, Pennsylvania.
Send comments to Mr. Gerald Gazda, Township Manager, 4444 Walbert Avenue, Allentown, Pennsylvania 18104.
Pennsylvania | Upper Milford (Township), Lehigh County | Leibert Creek | Approximately 750 feet downstream side of Chestnut Street | None> | *371
|  |  | Approximately 650 feet downstream side of Chestnut Street | None | *372
|  | Tributary to Little Lehigh Creek | At corporate limits | None | *385
|  |  | Upstream side of Indian Creek Road | None | *392
Maps available for inspection at the Township Hall, 5831 Kings Highway South, Old Zionsville, Pennsylvania.
Send comments to Mr. Linden Miller, Township Manager, P.O. Box 210, Old Zionsville, Pennsylvania 18068.
Pennsylvania | Upper Saucon (Township), Lehigh County | Saucon Creek | At downstream corporate limits (county boundary) | None | *337
|  |  | Approximately 400 feet downstream of Emmaus Road | None | *501
Maps available for inspection at the Township Municipal Building, 5500 Camp Meeting Road, Center Valley, Pennsylvania.
Send comments to Mr. Bernald Rodgers, Upper Saucon Township Manager, Upper Saucon Township Municipal Building, 5500 Camp Meeting Road, Center Valley, Pennsylvania 18034.
Pennsylvania | Washington (Township), Lehigh County | Lehigh River | Approximately 300 feet upstream of downstream corporate limits | *352 | *351
|  |  | Approximately 0.33 mile upstream of State Route 873 | *387 | *388
Maps available for inspection at the Township Hall, 7951 Center Street, Emerald, Pennsylvania.
Send comments to Mr. George Beam, Chairman of the Board of Supervisors, P.O. Box 27, Slatedale, Pennsylvania 18079-0027.
Pennsylvania | Whitehall (Township), Lehigh County | Lehigh River | Approximately 0.47 mile downstream of Lehigh Valley Thruway (U.S. Route 22 & I-78) | *264 | *265
|  |  | Approximately 300 feet upstream of confluence with Spring Creek | *302 | *304
|  | Jordan Creek | Approximately 0.5 mile downstream of North 4th Street | *264 | *265
|  |  | Approximately 0.9 mile upstream of Mauch Chunk Road | *310 | *311
Maps available for inspection at the Township Hall, 3219 MacArthur Road, Whitehall, Pennsylvania.
Send comments to Mr. Glenn Solt, Township Executive, 3219 MacArthur Road, Whitehall, Pennsylvania 18052.
Tennessee | Dyer County (Unincorporated Areas) | Obion River | Approximately 75 feet downstream of the Tennessee Kentucky Railroad | None | *270
|  |  | Approximately 2.81 miles upstream of State Route 78 | None | *279
|  | Jones Creek | Approximately 1,400 feet upstream of the confluence of Light Creek | *286 | *287
|  |  | Approximately 1.4 miles upstream of the confluence of Light Creek | *291 | *289
Maps available for inspection at the Dyer County Courthouse, Building Inspector's Office, #1 Veteran's Square, Dyersburg, Tennessee.
Send comments to Mr. James O. McCord, Dyer County Chief Executive Officer, P.O. Box 1360, Dyersburg, Tennessee 38025-1360.
Tennessee | Greeneville (Town), Greene County | Frank Creek | Approximately 375 feet downstream of Tusculum Boulevard | None | *1,424
|  |  | Approximately 750 feet upstream of Viking View Estates Road | None | *1,458
|  | Tributary to Richland Creek | Approximately 1,550 feet downstream of East McKee Street | None | *1,431
|  |  | Approximately 2,150 feet upstream of East Church Street | None | *1,486
Maps available for inspection at the Greeneville Town Hall, 200 North College Street, Greeneville, Tennessee.
Send comments to The Honorable G. Thomas Love, Mayor of the Town of Greeneville, 200 North College Street, Greeneville, Tennessee 37745.
Tennessee | Sweetwater (City), Monroe County | Sweetwater Creek | Approximately 0.33 mile downstream of Southern Railway | None | *903
|  |  | Approximately 200 feet downstream of State Route 68 | None | *917
Maps available for inspection at the Sweetwater City Hall, 203 Monroe Street, Sweetwater, Tennessee.
Send comments to The Honorable Billy R. Ridenour, Mayor of the City of Sweetwater, P.O. Box 267, Sweetwater, Tennessee 37874.
Vermont | Bellows Falls (Village), Windham County | Connecticut River | A point approximately 600 feet upstream of Bellows Falls Dam | *295 | *296
|  |  | A point approximately 0.78 mile upstream of Bellows Falls Dam | *296 | *300
Maps available for inspection at the Rockingham Town Hall, Clerk's Office, Village Square, Rockingham, Vermont.
Send comments to Ms. Roberta Smith, Manager of the Village of Bellows Falls and Town of Rockingham, P.O. Box 370, Bellows Falls, Vermont 05101.
Vermont | Rockingham (Town), Windham County | Connecticut River | A point approximately 0.78 mile upstream of Bellows Falls Dam | *296 | *300
|  |  | A point approximately 1.34 miles upstream of the confluence of Commissary Brook | *301 | *306
|  | Williams River | At the confluence with the Connecticut River | *297 | *302
|  |  | A point approximately 80 feet upstream of U.S. Route 5 | *301 | *302
Maps available for inspection at the Rockingham Town Hall, Clerk's Office, Village Square, Rockingham, Vermont.
Send comments to Ms. Roberta Smith, Manager of the Village of Bellows Falls and Town of Rockingham, P.O. Box 370, Bellows Falls, Vermont 05101.
West Virginia | Jackson County (Unincorporated Areas) | Mill Creek | Just downstream of State Highway 87 Just downstream of County Highway 21 | None None | *589 *599
Maps available for inspection at the Jackson County Courthouse, Main Street, Ripley, West Virginia.
Send comments to Mr. Dick Casto, President of the Jackson County Commission, Jackson County Courthouse, P.O. Box 800, Ripley, West Virginia 25271.
West Virginia | Ripley (City), Jackson County | Mill Creek | Approximately 450 feet downstream of U.S. Route 33 | *594 | *593
|  |  | At confluence of Sycamore Creek | *597 | *596
|  |  | At downstream corporate limits | *601 | *599
Maps available for inspection at the Ripley Municipal Building, 113 South Church Street, Ripley, West Virginia.
Send comments to The Honorable Ollie M. Harvey, Mayor of the City of Ripley, Municipal Building, 113 South Church Street, Ripley, West Virginia 25271.

(Catalog of Federal Domestic Assistance No. 83.100, “Flood Insurance.”)
Dated: January 31, 2000.
Michael J. Armstrong,
Associate Director for Mitigation.

[FR Doc. 00-3523 Filed 2-14-00; 8:45 am]

BILLING CODE 6718-04-P